DEPARTMENT OF ENERGY

Federal Energy Regulatory Commission

[Docket No. CP13-33-000]

Southern Natural Gas Company, L.L.C.; Notice of Request Under Blanket Authorization

Take notice that on December 21, 2012, Southern Natural Gas Company, L.L.C. (Southern), P.O. Box 2563, Birmingham, AL 35202-2563, filed in Docket No. CP13-33-000, an application pursuant to sections 157.205, 157.208, 157.210 and 157.216 of the Commission's Regulations under the Natural Gas Act (NGA) as amended, to relocate one of its existing 10,350 horsepower compressor units from its Lacombe Compressor Station in St. Tammany Parish Louisiana downstream to its Enterprise Compressor Station in Clarke County Mississippi. In addition, Southern requests to perform other modifications to improve gas quality and increase the amount of available receipt point capacity and supply diversity on Southern's system, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Glenn A. Sheffield, Director, Rates & Regulatory Department, P.O. Box 2563, Birmingham, AL 35202-2563 at telephone (205) 325-3818 or email: glenn_sheffield@kindermorgan.com, Patricia S. Francis, Assistant General Counsel, P.O. Box 2563, Birmingham, AL 35202-2563 at telephone (205) 325-7696 or email: patty_francis@kindermorgan.com or Tina S. Hardy, Regulatory Manager, P.O. Box 2563, Birmingham, AL 35202-2563 at telephone (205) 325-3668 or email: tina_hardy@kindermorgan.com.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Persons who wish to comment only on the environmental review of this project should submit an original and two copies of their comments to the Secretary of the Commission. Environmental commenter's will be placed on the Commission's environmental mailing list, will receive copies of the environmental documents, and will be notified of meetings associated with the Commission's environmental review process. Environmental commenter's will not be required to serve copies of filed documents on all other parties. However, the non-party commentary, will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street NE., Washington, DC 20426.

Dated: January 7, 2013.
Kimberly D. Bose,
Secretary.

[FR Doc. 2013-00649 Filed 1-14-13; 8:45 am]

BILLING CODE 6717-01-P